DEPARTMENT OF TRANSPORTATION

Pipeline and Hazardous Materials Safety Administration

49 CFR Part 180

[Docket No. PHMSA-2025-0103 (HM-268O)]

RIN 2137-AG17

Hazardous Materials: Adoption of Department of Transportation Special Permit 14175

AGENCY: Pipeline and Hazardous Materials Safety Administration (PHMSA), Department of Transportation (DOT).

ACTION: Notice of proposed rulemaking (NPRM).

SUMMARY: PHMSA proposes adopting the provisions of Department of Transportation (DOT) special permit (SP) 14175 into the hazardous materials regulations to authorize a 10-year requalification period when using the ultrasonic examination (UE) testing method for DOT specification 3A and 3AA used for flammable and non-flammable, nonpoisonous gas service. The proposed adoption reflects advances in testing technology and would relieve the burden of performing more frequent cylinder requalification.

DATES: Comments must be received on or before September 2, 2025.

ADDRESSES: You may submit comments identified by the Docket Number PHMSA-2025-0103 using any of the following methods:

E-Gov Web: https://www.regulations.gov. This site allows the public to enter comments on any Federal Register notice issued by any agency. Follow the online instructions for submitting comments.

Mail: Docket Management System: U.S. Department of Transportation, 1200 New Jersey Avenue SE, West Building Ground Floor, Room W12-140, Washington, DC 20590-0001.

Hand Delivery: U.S. DOT Docket Management System: West Building Ground Floor, Room W12-140, 1200 New Jersey Avenue SE, between 9 a.m. and 5 p.m., Monday through Friday, except Federal holidays.

Fax: 1-202-493-2251.

Instructions: Please include the docket number PHMSA-2025-0103 at the beginning of your comments. If you submit your comments by mail, submit two copies. If you wish to receive confirmation that PHMSA received your comments, include a self-addressed stamped postcard. Internet users may submit comments at https://www.regulations.gov.

Note: Comments are posted without changes or edits to https://www.regulations.gov, including any personal information provided. There is a privacy statement published on https://www.regulations.gov.

Privacy Act: In accordance with 5 U.S.C. 553(c), DOT solicits comments from the public to inform its rulemaking process. DOT posts these comments, without edit, including any personal information the commenter provides, to https://www.regulations.gov, as described in the system of records notice (DOT/ALL-14 FDMS), which can be reviewed at https://www.dot.gov/privacy.

Confidential Business Information: Confidential Business Information (CBI) is commercial or financial information that is both customarily and actually treated as private by its owner. Under the Freedom of Information Act (FOIA, 5 U.S.C. 552), CBI is exempt from public disclosure. It is important that you clearly designate the comments submitted as CBI if: your comments responsive to this document contain commercial or financial information that is customarily treated as private; you actually treat such information as private; and your comment is relevant or responsive to this notice. You may ask PHMSA to provide confidential treatment to information you give to the agency by taking the following steps: (1) mark each page of the original document submission containing CBI as “Confidential”; (2) send PHMSA, along with the original document, a second copy of the original document with the CBI deleted; and (3) explain why the information that you are submitting is CBI. Submissions containing CBI should be sent to Ryan Larson, Standards and Rulemaking Division, Pipeline and Hazardous Materials Safety Administration (PHMSA), 2nd Floor, 1200 New Jersey Avenue SE, Washington, DC 20590-0001, or by email at ryan.larson@dot.gov. Any materials PHMSA receives that is not specifically designated as CBI will be placed in the public docket.

Docket: For access to the docket to read background documents or comments received, go to http://www.regulations.gov. Follow the online instructions for accessing the docket. Alternatively, you may review the documents in person at the street address listed above.

FOR FURTHER INFORMATION CONTACT: Ryan Larson, Transportation Regulations Specialist, 1200 New Jersey Avenue SE, Washington, DC 20590, 202-366-8553, ryan.larson@dot.gov.

I. General Discussion

PHMSA proposes to adopt the provisions of DOT-SP 14175 into the Hazardous Materials Regulations (HMR: 49 CFR parts 171-180) to authorize a 10-year requalification for DOT specification 3A and 3AA cylinder bundles used in flammable and non-flammable, nonpoisonous gas service. Currently, the HMR generally requires requalification of DOT Specification 3A and 3AA cylinders every five years for continued service in accordance with § 180.209. There are exceptions to the 5-year requalification period depending on the use and material contained in the cylinder. When DOT specification cylinders are required to be requalified, they generally must be subjected to a pressure test, which measures the expansion of the cylinder under pressure, and to internal and external visual inspections to check for defects in the cylinder and ensure the cylinder is still safe for continued service in transportation.

Section 180.209(b)(1) provides an exception to the 5-year requalification period for DOT 3A and 3AA cylinders provided that certain conditions are met. This exception allows these cylinders to be retested every 10 years rather than every five years if each cylinder has a water capacity less than 125 lb. (56.7 kg); the cylinder is removed from any cluster, bank, group, rack, or vehicle each time it is filled; the cylinder was manufactured after December 31, 1945; the cylinder is used exclusively for a listed gas; the cylinder is dried immediately after the hydrostatic (pressure) testing to remove all traces of water; the cylinder is not used for underwater breathing; and the cylinder is stamped with a five-pointed star to indicate the 10-year test interval.

DOT-SP 14175 was issued to provide a similar waiver from 5-year requalification period, except that the cylinders do not have to be removed from any cluster, bank, group, rack, or vehicle prior to filling. Specifically, DOT-SP 14175 allows a 10-year requalification period using the ultrasonic examination (UE) testing method. This special permit similarly limits the types of gases that are used in these cylinders as well as the capacities of the cylinders as in § 180.209(b)(1).

By adopting the provisions of DOT-SP 14175 to generally allow UE as an alternative requalification method, PHMSA is providing the cylinder industry with greater efficiencies due to faster testing (UE does not require draining the contents of the cylinder prior to testing), less down time (cylinders can be back in service immediately after testing and do not require additional time for an internal inspection), reducing the risk of contamination (no need for valve removal with UE testing), and increased accuracy (UE testing is able to detect much smaller flaws and wall thickness). In addition, the adoption of DOT-SP 14175 into the HMR for general use removes the paperwork burden for periodic renewal by permit holders as well as government time spent processing renewal requests.

In granting the special permit that allowed UE, PHMSA determined that this cylinder requalification method is likely a superior method of examination compared to traditional methods currently required by the HMR. As such, PHMSA is confident an equivalent level of safety to the HMR would be maintained if not exceeded. PHMSA conducted a review of use of DOT-SP 14175 and determined that there were no compliance violations or incidents associated with the use of this special permit. Therefore, PHMSA proposes to adopt the provisions of DOT-SP 14175 into a new § 180.209(b)(2) that would authorize a 10-year requalification period for certain DOT 3A and 3AA cylinders used for the transportation in commerce of specified flammable and nonflammable, non-poisonous gases. PHMSA does not expect that these proposed revisions would have any adverse impact on safety, but rather are more likely to be safety enhancing.

II. Regulatory Analysis and Notices

A. Legal Authority

This proposed rule is published under the authority of the Secretary of Transportation set forth in the Federal Hazardous Materials Transportation laws (49 U.S.C. 5101 et seq.) and delegated to the PHMSA Administrator pursuant to 49 CFR 1.97.

B. Executive Orders 12866; Regulatory Planning and Review

Executive Order (E.O.) 12866 (“Regulatory Planning and Review”),¹ as implemented by DOT Order 2100.6B (“Policies and Procedures for Rulemaking”), requires agencies to regulate in the “most cost-effective manner,” to make a “reasoned determination that the benefits of the intended regulation justify its costs,” and to develop regulations that “impose the least burden on society.” DOT Order 2100.6B specifies that regulations should generally “not be issued unless their benefits are expected to exceed their costs.” In arriving at those conclusions, E.O. 12866 requires that agencies should consider “both quantifiable measures . . . and qualitative measures of costs and benefits that are difficult to quantify” and “maximize net benefits . . . unless a statute requires another regulatory approach.” E.O. 12866 also requires that “agencies should assess all costs and benefits of available regulatory alternatives, including the alternative of not regulating.” DOT Order 2100.6B directs that PHMSA and other Operating Administrations must generally choose the “least costly regulatory alternative that achieves the relevant objectives” unless required by law or compelling safety need.

¹ 58 FR 51735 (Oct. 4, 1993).

E.O. 12866 and DOT Order 2100.6B also require that PHMSA submit “significant regulatory actions” to the Office of Information and Regulatory Affairs (OIRA) within the Executive Office of the President's Office of Management and Budget (OMB) for review. This proposed rule is a not significant regulatory action pursuant to E.O. 12866; it also has not been designated as a “major rule” as defined by the Congressional Review Act (5 U.S.C. 801 et seq.).

PHMSA has complied with E.O. 12866 as implemented by DOT Order 2100.6B and made a preliminary determination that this proposed rule would result in cost savings by reducing regulatory burdens and regulatory uncertainty for affected entities by providing for longer cylinder requalification intervals with an alternative test method that has proven to be more accurate and more efficient. PHMSA expects those cost savings would also result in reduced costs for the public to whom those entities generally transfer a portion of their compliance costs.

C. Executive Orders 14192 and 14219

This proposed rule, if finalized as proposed, is expected to be an E.O. 14192 deregulatory action.² PHMSA seeks data that would be helpful to generate an estimate of the cost savings from this rule. PHMSA's initial estimates are that the total costs of the rule on the regulated community would be less than zero. Nor does this proposed rule does implicate any of the factors identified in section 2(a) of E.O. 14219 indicative of a regulation that is “unlawful . . . [or] that undermine[s] the national interest.” ³

² 90 FR 9065 (Jan. 31, 2025).

³ 90 FR 10583 (Feb. 19, 2025).

D. Energy-Related Executive Orders 13211, 14154, and 14156

The President has declared in E.O. 14156 (“Declaring a National Energy Emergency”) ⁴ a national emergency to address the United States's inadequate energy development production, transportation, refining, and generation capacity. Similarly, E.O. 14154 (“Unleashing American Energy”) ⁵ asserts a Federal policy to unleash American energy by ensuing access to abundant supplies of reliable, affordable energy from (inter alia) the removal of “undue burden[s]” on the identification, development, or use of domestic energy resources such as PHMSA-jurisdictional cylinder owners and cylinder requalifiers. PHMSA preliminarily finds this proposed rule is consistent with each of E.O. 14156 and E.O. 14154. The proposed rule would give affected entities, many of whom are in the construction and energy industry, relief from more frequent test intervals for certain DOT cylinders as well as flexibility to use more efficient testing methods. PHMSA, therefore, expects the regulatory amendments in this proposed rule would in turn facilitate affected entities' ability to provide abundant, reliable, affordable compressed gases in response to residential, commercial, and industrial demand.

⁴ 90 FR 8353 (Jan. 29, 2025).

⁵ 90 FR 8353 (Jan. 29, 2025).

This proposed rule is not a “significant energy action” under E.O. 13211 (“Actions Concerning Regulations That Significantly Affect Energy Supply, Distribution, or Use”),⁶ which requires Federal agencies to prepare a Statement of Energy Effects for any “significant energy action.” Because this proposed rule is not a significant action under E.O. 12866, it would not have a significant adverse effect on supply, distribution, or energy use; and OIRA has therefore not designated this proposed rule as a significant energy action.

⁶ 66 FR 28355 (May 22, 2001).

E. Executive Order 13132: Federalism

PHMSA analyzed this proposed rule in accordance with the principles and criteria contained in E.O. 13132 (“Federalism”) ⁷ and the Presidential Memorandum (“Preemption”) published in the Federal Register on May 22, 2009.⁸ E.O. 13132 requires agencies to assure meaningful and timely input by State and local officials in the development of regulatory policies that may have “substantial direct effects on the States, on the relationship between the National Government and the States, or on the distribution of power and responsibilities among the various levels of government.” The Federal Hazardous Materials Transportation Laws contain an express preemption provision at 49 U.S.C. 5125(b) that preempts state, local, and tribal requirements on certain covered subjects, unless the non-federal requirements are “substantively the same” as the federal requirements, including the following:

⁷ 64 FR 43255 (Aug. 10, 1999).

⁸ 74 FR 24693 (May 22, 2009).

(1) The designation, description, and classification of hazardous material;

(2) The packing, repacking, handling, labeling, marking, and placarding of hazardous material;

(3) The preparation, execution, and use of shipping documents related to hazardous material and requirements related to the number, contents, and placement of those documents;

(4) The written notification, recording, and reporting of the unintentional release in transportation of hazardous material; and

(5) The design, manufacture, fabrication, inspection, marking, maintenance, recondition, repair, or testing of a packaging or container represented, marked, certified, or sold as qualified for use in transporting hazardous material in commerce.

This proposed rule addresses covered subject item (5) above and would preempt state, local, and Tribal requirements not meeting the “substantively the same” standard. While the proposed rule may operate to preempt some State requirements, it would not impose any regulation that has substantial direct effects on the States, the relationship between the National Government and the States, or the distribution of power and responsibilities among the various levels of government. The preemptive effect of the regulatory amendments in this proposed rule is limited to the minimum level necessary to achieve the objectives of the Federal Hazardous Materials Transportation Laws. Therefore, the consultation and funding requirements of E.O. 13132 do not apply.

F. Regulatory Flexibility Act

The Regulatory Flexibility Act (5 U.S.C. 601 et seq.) requires Federal agencies to conduct an Initial Regulatory Flexibility Analysis (IRFA) for a proposed rule subject to notice-and-comment rulemaking under the APA unless the agency head certifies that the proposed rule in the rulemaking would not have a significant economic impact on a substantial number of small entities. E.O. 13272 (“Proper Consideration of Small Entities in Agency Rulemaking”) ⁹ obliges agencies to establish procedures promoting compliance with the Regulatory Flexibility Act. DOT posts its implementing guidance on a dedicated web page.¹⁰ This proposed rule was developed in accordance with E.O. 13272 and DOT implementing guidance to ensure compliance with the Regulatory Flexibility Act. The proposed rule is expected to reduce burdens. Therefore, PHMSA certifies the proposed rule does not have a significant impact on a substantial number of small entities.

⁹ 67 FR 53461 (Aug. 16, 2002).

¹⁰ DOT, “Rulemaking Requirements Related to Small Entities,” https://www.transportation.gov/regulations/x rulemaking-requirements-concerning-small-entities (last accessed Sept 3, 2024).

G. Unfunded Mandates Reform Act of 1995

The Unfunded Mandates Reform Act (UMRA, 2 U.S.C. 1501 et seq.) requires agencies to assess the effects of Federal regulatory actions on State, local, and Tribal governments, and the private sector. For any proposed or final rule that includes a Federal mandate that may result in the expenditure by state, local, and Tribal governments, in the aggregate of $100 million or more (in 1996 dollars) in any given year, the agency must prepare, amongst other things, a written statement that qualitatively and quantitatively assesses the costs and benefits of the Federal mandate.

This proposed rule does not impose unfunded mandates under UMRA because it does not result in costs of $100 million or more (in 1996 dollars) per year for either State, local, or Tribal governments, or to the private sector.

H. National Environmental Policy Act

The National Environmental Policy Act (NEPA, 42 U.S.C. 4321 et seq.) requires that Federal agencies assess and consider the impact of major Federal actions on the human and natural environment.

PHMSA analyzed this proposed rule in accordance with NEPA and has preliminarily determined that the rulemaking would not adversely affect safety and therefore would not significantly affect the quality of the human and natural environment. The public is invited to comment on the impact of the proposed action.

I. Executive Order 13175

PHMSA analyzed this proposed rule according to the principles and criteria in E.O. 13175 (“Consultation and Coordination with Indian Tribal Governments”) ¹¹ and DOT Order 5301.1A (“Department of Transportation Tribal Consultation Policies and Procedures”). E.O. 13175 requires agencies to assure meaningful and timely input from Tribal government representatives in the development of rules that significantly or uniquely affect Tribal communities by imposing “substantial direct compliance costs” or “substantial direct effects” on such communities or the relationship or distribution of power between the Federal government and Tribes.

¹¹ 65 FR 67249 (Nov. 9, 2000).

PHMSA assessed the impact of the proposed rule and determined that it would not significantly or uniquely affect Tribal communities or Indian Tribal governments. The rulemaking's regulatory amendments have a broad, national scope; therefore, this proposed rule would not significantly or uniquely affect Tribal communities, much less impose substantial compliance costs on Native American Tribal governments or mandate Tribal action. For these reasons, PHMSA has concluded that the funding and consultation requirements of E.O. 13175 and DOT Order 5301.1A do not apply.

J. Paperwork Reduction Act

The Paperwork Reduction Act (44 U.S.C. 3501 et seq.) and its implementing regulations at 5 CFR 1320.8(d) requires that PHMSA provide interested members of the public and affected agencies with an opportunity to comment on information collection and recordkeeping requests. This rulemaking would not create, amend, or rescind any existing information collections.

However, this rulemaking eliminates the need for persons to renew a special permit, resulting in a decrease in paperwork burden for special permit holders. PHMSA estimates the reduction in information collection burden as follows:

OMB Control No. 2137-0051: Rulemaking, Special Permits, and Preemption Requirements.

Decrease in Annual Number of Respondents: 30.

Decrease in Annual Responses: 30.

Decrease in Annual Burden Hours: 45.

Decrease in Annual Burden Cost: $0.

PHMSA specifically requests comments on the information collection and recordkeeping burdens associated with developing, implementing, and maintaining these requirements for approval under this NPRM. Address written comments to the Dockets Unit as identified in the ADDRESSES section of this NPRM. PHMSA must receive comments regarding information collection burdens prior to the close of the comment period identified in the DATES section of this NPRM. Notwithstanding any other provision of law, no person is required to respond to a collection of information unless such collection displays a valid Office of Management and Budget (OMB) control number.

Please direct your requests for a copy of this information collection to Steven Andrews, Office of Hazardous Materials Standards (PHH-12), Pipeline and Hazardous Materials Safety Administration, 1200 New Jersey Avenue SE, 2nd Floor, Washington, DC 20590-0001.

K. Executive Order 13609 and International Trade Analysis

E.O. 13609 (“Promoting International Regulatory Cooperation”) ¹² requires agencies consider whether the impacts associated with significant variations between domestic and international regulatory approaches are unnecessary or may impair the ability of American business to export and compete internationally. In meeting shared challenges involving health, safety, labor, security, environmental, and other issues, international regulatory cooperation can identify approaches that are at least as protective as those that are or would be adopted in the absence of such cooperation. International regulatory cooperation can also reduce, eliminate, or prevent unnecessary differences in regulatory requirements.

¹² 77 FR 26413 (May 4, 2012).

Similarly, the Trade Agreements Act of 1979 (Pub. L. 96-39), as amended by the Uruguay Round Agreements Act (Pub. L. 103-465), prohibits Federal agencies from establishing any standards or engaging in related activities that create unnecessary obstacles to the foreign commerce of the United States. For purposes of these requirements, Federal agencies may participate in the establishment of international standards, so long as the standards have a legitimate domestic objective, such as providing for safety, and do not operate to exclude imports that meet this objective. The statute also requires consideration of international standards and, where appropriate, that they be the basis for U.S. standards.

PHMSA engages with international standards setting bodies to protect the safety of the American public. PHMSA has assessed the effects of the proposed rule and has determined that its regulatory amendments would not cause unnecessary obstacles to foreign trade.

L. Cybersecurity and Executive Order 14028

E.O. 14028 (“Improving the Nation's Cybersecurity”) ¹³ directed the Federal government to improve its efforts to identify, deter, and respond to “persistent and increasingly sophisticated malicious cyber campaigns.” PHMSA has considered the effects of the proposed rule and has determined that its regulatory amendments would not materially affect the cybersecurity risk profile for affected entities.

¹³ 86 FR 26633 (May 17, 2021).

List of Subjects in 49 CFR Part 180

Hazardous materials transportation, Motor carriers, Motor vehicle safety, Packaging and containers, Railroad safety, Reporting and recordkeeping requirements.

In consideration of the foregoing, PHMSA proposes to amend 49 CFR chapter I as follows:

PART 180—CONTINUING QUALIFICATION AND MAINTENANCE OF PACKAGINGS

1. The authority citation for part 180 continues to read as follows:

Authority: 49 U.S.C. 5101-5128; 49 CFR 1.81 and 1.97.

2. In § 180.209:

a. Revise paragraph (a);

b. Redesignate paragraphs (b)(2) and (b)(3) as paragraphs (b)(3) and (b)(4);

c. Add new paragraph (b)(2).

The revisions read as follows:

§ 180.209 Requirements for requalification of specification cylinders.

(a) Periodic qualification of cylinders. Each specification cylinder that becomes due for periodic requalification, as specified in the following table, must be requalified and marked in conformance with the requirements of this subpart. Requalification records must be maintained in accordance with § 180.215. Table 1 follows:

Table 1 to Paragraph (a)—Requalification of Cylinders ¹
Specification under which cylinder was made | Minimum test pressure (psig) ² | Requalification period (years)
3 | 3000 psig | 5.
3A, 3AA | 5/3 times service pressure, except non-corrosive service (see § 180.209(g)), or UE ³ ⁵ | 5, 10, or 12 (see § 180.209(b), (f), (h), and (j)).
3AL | 5/3 times service pressure | 5 or 12 (see § 180.209(j) and (m) ⁴).
3AX, 3AAX | 5/3 times service pressure | 5.
3B, 3BN | 2 times service pressure (see § 180.209(g)) | 5 or 10 (see § 180.209(f)).
3E | Test not required
3HT | 5/3 times service pressure | 3 (see §§ 180.209(k) and 180.213(c)).
3T | 5/3 times service pressure or UE ³ | 5.
4AA480 | 2 times service pressure (see § 180.209(g)) | 5 or 10 (see § 180.209(h)).
4B, 4BA, 4BW, 4B-240ET | 2 times service pressure, except non-corrosive service (see § 180.209(g)) | 5, 7, 10, or 12 (see § 180.209(e), (f), and (j)).
4D, 4DA, 4DS | 2 times service pressure | 5.
4E | 2 times service pressure, except non-corrosive service (see § 180.209(g)) | 5, 10, or 12 (see § 180.209(e)).
4L | Test not required
8, 8AL |  | 10 or 20 (see § 180.209(i)).
Exemption or special permit cylinder | See current exemption or special permit, or UE ³ as allowed by CGA C-20 (2014) | See current exemption or special permit.
Foreign cylinder (see § 173.301(j) of this subchapter for restrictions on use) | As marked on cylinder, but not less than 5/3 of any service or working pressure marking | 5 (see §§ 180.209(l) and 180.213(d)(2)).
¹ Any cylinder not exceeding two inches outside diameter and less than two feet in length is excepted from volumetric expansion test.
² For cylinders not marked with a service pressure, see § 173.301a(b) of this subchapter.
³ Minimum test pressure is not applicable to those cylinders and tubes requalified using ultrasonic examination (UE).
⁴ This provision does not apply to cylinders used for carbon dioxide, fire extinguisher, or other industrial gas service.
⁵ UE must be performed by a valid RIN holder applicable to DOT 3A and 3AA cylinders.

* * * * *

(b) * * *

(2) A cylinder conforming to specification DOT 3A or 3AA with a water capacity of 56.7 kg (125 lb.) or less that is not removed from any cluster, bank, group, rack, or vehicle each time it is filled, may be requalified by either hydrostatic testing and visual inspection described in § 180.205 or by ultrasonic examination (UE) testing by a valid RIN holder for DOT 3A or 3AA cylinders every ten years instead of every five years, provided the cylinder conforms to all of the following conditions:

(i) The cylinder was manufactured after December 31, 1945.

(ii) The cylinder is used exclusively for air; argon; helium; oxygen; nitrogen; neon; tertrafluoromethane (CF4); hydrogen; deuterium; mixtures of hydrogen, argon, helium, oxygen, and/or nitrogen; mixtures of argon, xenon, and/or neon; mixtures of krypton and neon; mixtures of hydrogen, argon, helium, and/or nitrogen; and mixtures containing deuterium, provided all gas mixtures have a dew point at or below minus (52 °F) at 1 atmosphere.

(iii) Carbon dioxide in any concentration cannot be added to cylinders in the bundle.

(iv) Gases that are toxic and/or corrosive cannot be added to cylinders in the bundle.

(v) If requalified by hydrostatic pressure testing, the cylinder is dried immediately after testing to remove all traces of water.

(vi) The cylinder is not used for underwater breathing.

(vii) Each cylinder is stamped with a five-pointed star at least one-fourth of an inch high immediately following the test date.

* * * * *

Issued in Washington, DC, on June 26, 2025, under the authority delegated in 49 CFR 1.97.
Benjamin D. Kochman,
Acting Administrator

[FR Doc. 2025-12083 Filed 6-27-25; 4:15 pm]

BILLING CODE 4910-60-P